DEPARTMENT OF HOMELAND SECURITY

[Docket No. CISA-2020-0008]

Cybersecurity and Infrastructure Security Agency (CISA) Speaker Request Form

AGENCY: Cybersecurity and Infrastructure Security Agency (CISA), Department of Homeland Security (DHS).

ACTION: 60-Day notice and request for comments; New collection (Request for a new OMB Control Number, 1670-NEW.

SUMMARY: DHS CISA External Affairs will submit the following information collection request (ICR) to the Office of Management and Budget (OMB) for review and clearance in accordance with the Paperwork Reduction Act of 1995.

DATES: Comments are due by February 16, 2021.

ADDRESSES: You may submit comments, identified by docket number CISA-2020-0008, by one of the following methods:

• Federal eRulemaking Portal: http://www.regulations.gov. Please follow the instructions for submitting comments.

• Email: CISA.Speakers@cisa.dhs.gov. Please include docket number CISA-2020-0008 in the subject line of the message.

• Mail: Written comments and questions about this Information Collection Request should be forwarded to DHS/CISA/External Affairs, ATTN: 245 Murray Lane SW, Mail Stop 0380, Washington, DC 20598-0609.

Instructions: All submissions received must include the words “Department of Homeland Security” and the docket number for this action. Comments received will be posted without alteration at http://www.regulations.gov, including any personal information provided.

Docket: For access to the docket and comments received, please go to www.regulations.gov and enter docket number CISA-2020-0008.

Comments submitted in response to this notice may be made available to the public through relevant websites. For this reason, please do not include in your comments information of a confidential nature, such as sensitive personal information or proprietary information. If you send an email comment, your email address will be automatically captured and included as part of the comment that is placed in the public docket and made available on the internet. Please note that responses to this public comment request containing any routine notice about the confidentiality of the communication will be treated as public comments that may be made available to the public notwithstanding the inclusion of the routine notice.

FOR FURTHER INFORMATION CONTACT: Marilyn Stackhouse, 703-235-2162, CISA.Speakers@hq.dhs.gov.

SUPPLEMENTARY INFORMATION: The Cybersecurity and Infrastructure Security Agency Act of 2018 (P.L. 115-278) created the Cybersecurity and Infrastructure Security Agency (CISA). CISA is responsible for protecting the Nation's critical infrastructure from physical and cyber threats. This mission requires effective coordination and collaboration from government and private sector organizations. As part of the collaboration efforts, CISA receives requests for CISA employees to give presentations and speeches at various events.

This digital collection of information is necessary to ensure an efficient and timely process to schedule outreach and engagement with CISA stakeholders. This information may be disclosed as generally permitted under 5 U.S.C 522.

The Speaker Request Form will be the first point of contact between CISA and the public to initiate CISA speaking engagements. The form will be available on www.cisa.gov and any member of the public can submit a request for a CISA employee to speak at an event. The form will be used by CISA to track and manage external speaking engagements. The information will also be used to schedule and determine the most appropriate CISA speaker based on date, time, location, presentation format, and topic. The form collects information regarding the requested speaking engagement, e.g., the host organization, the speaking topic, agenda, and additional event details. The requested information helps CISA determine whether the speaker should attend the engagement and/or how CISA should best prepare for the event.

The information is used to determine if accepting the request will further CISA's mission.

The CISA Speakers Bureau team will use the information to identify a speaker and route the Speakers Request Form to that person for consideration. Confirmed CISA speaking engagements are then sent to DHS Public Affairs for awareness.

The form will be available on www.cisa.gov as a fillable pdf and/or webform, and will be submitted to the CISA External Affairs Speakers Bureau. The data collected will be stored in an internal SharePoint site.

This is a NEW collection of information.

OMB is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Title of Collection: CISA Speaker Request Form.

OMB Control Number: 1670-NEW.

Frequency: Annually.

Affected Public: State, Local, Tribal, and Territorial Governments.

Number of Annualized Respondents: 1,300.

Estimated Time per Respondent: 0.25 hours.

Total Annualized Burden Hours: 325.

Total Annualized Respondent Opportunity Cost: $11,914.

Total Annualized Respondent Out-of-Pocket Cost: $0.

Total Annualized Government Cost: $0.

Samuel Vazquez,
Acting Chief Information Officer, Department of Homeland Security, Cybersecurity and Infrastructure Security Agency.

[FR Doc. 2020-27902 Filed 12-17-20; 8:45 am]

BILLING CODE 9110-9P-P